DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of December 14 through December 31, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,298; Leedsworld, Inc., dba Leed's/Leased Workers from Callous Company, Warren, OH, May 20, 2008.

TA-W-70,592; Boise White Paper, LLC, Bosie Paper Holdings, LLC, St. Helens, OR, May 19, 2008.

TA-W-70,638; IMI Cornelius, Inc., Paramount Staffing, Staffing Network, Aerotex, Glendale Heights, IL, May 26, 2008.

TA-W-70,655; L.L. Bean Manufacturing, Brunswick, ME, May 22, 2008.

TA-W-71,801; Nautilus, Inc., Commercial Division, Leased Workers from Select Staffing, Independence, VA, July 22, 2008.

TA-W-72,373; Plastic Dress Up Company, South El Monte, CA, September 21, 2008.

TA-W-70,147; Lee Mah Electronics, San Francisco, CA, May 18, 2008.

TA-W-70,150; CB&I Constructors, Inc., Provo Shop Division, Warren, PA, May 18, 2008.

TA-W-70,492; Appleton Coated, LLC, A Subsidiary of Arjowiggins SAS, Combined Locks, WI, May 20, 2008.

TA-W-70,523; Cox Mfg. Co., Inc., Hildebran, NC, May 21, 2008.

TA-W-70,581; CB&I Constructors, Inc., Provo Shop Division, Provo, UT, May 22, 2008.

TA-W-70,820A; Marshall Manufacturing Corporation, Leased Workers from Staffing Solutions, Cape Canaveral, FL, May 28, 2008.

TA-W-70,820; Marshall Manufacturing Corporation, Leased Workers from Staffing Solutions, Lewisburg, TN, May 28, 2008.

TA-W-70,925; Troy Laminating and Coating, Inc., Chargeurs Protective Films, Leased Workers from Accoutemps, Troy, OH, June 1, 2008.

TA-W-70,997; Ross Mould, Inc., Washington, PA, May 29, 2008.

TA-W-71,033; JessEM Tool Company, Leased Workers From Accuforce and Staffpro, Greeneville, TN, May 19, 2008.

TA-W-71,050; Xaloy, Inc., Pulaski, VA, June 2, 2008.

TA-W-71,065; NOV Hydra Rig, Hydra Rig Nitrogen, National Oilwell Varco, Leased Workers from Express, Duncan, OK, June 5, 2008.

TA-W-71,228; Kawneer North America, Building & Construction, Alcoa, Leased Workers from M&W Machine, Hernando, MS, June 15, 2008.

TA-W-71,272; Crucible Specialty Corporation, Syracuse, NY, June 16, 2008.

TA-W-71,339; A.R.E. Manufacturing, Inc., Leased Workers From Personnel Source, Newberg, OR, May 23, 2008.

TA-W-71,498; Du Fresne Manufacturing Company, Leased Workers from Work Connection and Manpower, Vadnais Heights, MN, June 30, 2008.

TA-W-71,807; B & C Machine Company, Barberton, OH, July 27, 2008.

TA-W-71,906; Flowserve US, Inc., Flow Control Div., Sulphur Springs, Texas Plant, Instaff Personnel, Sulphur Springs, TX, July 27, 2008.

TA-W-72,065; Trinity Tank Carl, Inc., Plant #19, Longview, TX, July 21, 2008.

TA-W-72,271; Vincent Industrial Plastics, Inc., Henderson, KY, September 2, 2008.

TA-W-70,986; Bally Sportswear, Inc., New York, NY, June 2, 2008.

TA-W-71,055; Milliken and Company, Johnston, SC, May 19, 2008.

TA-W-71,348; Rocky Fashion, Inc., New York, NY, June 22, 2008.

TA-W-72,352; Roanoke Sportswear Company, Inc., Roanoke Rapids, NC, September 16, 2008.

The following certifications have been issued. The requirements of Section 222(a)(2)(B) (shift in production or services) of the Trade Act have been met.

TA-W-70,511; Tecumseh Products Company, Leased Workers of Express Personnel, Verona, MS, May 18, 2008.

TA-W-70,610; Solar World Industry Services, Vancouver, WA, May 21, 2008.

TA-W-70,780; Federal Mogul Corporation, Powertrain, Seals and Bearings Division, Blacksburg, VA, May 19, 2008.

TA-W-70,936; ITW Ark-Les Connector BU, Illinois Tool Works, Inc., Stoughton, MA, June 1, 2008.

TA-W-71,022; Sanyo Manufacturing Corporation, Sanyo Electric, Forrest City, AR, December 27, 2008.

TA-W-71,177; Daimler Trucks North America LLC, Corporate Headquarters, Including Leased Workers, Portland, OR, June 9, 2008.

TA-W-71,344; B.W. Elliott Manufacturing Company, LLC, Leased Workers from Enterforce Eastern Temp Service and Adecco, Binghamton, NY, June 19, 2008.

TA-W-71,424; SUMCO Phoenix Corporation, Leased Workers From The Job Store, Maineville, OH, June 23, 2008.

TA-W-71,441; Rule Industries, Inc., Coworx, Randstad and ARS Staffing, Gloucester, MA, June 23, 2008.

TA-W-71,453; Carling Technologies, Inc., Plainville, CT, June 26, 2008.

TA-W-71,578; Shore to Shore, Inc., on-Site Independent Contractor, Miamisburg, OH, June 26, 2008.

TA-W-71,632; Talaris, Inc., Formerly De La Rue Cash Systems, Leased Workers of Kelly Services, Watertown, WI, July 9, 2008.

TA-W-71,713; DCM Manufacturing, Leased Workers of Staff Mark, Regal Staffing and Staff Force, Haltom City, TX, July 16, 2008.

TA-W-72,016; Surgrx, Inc, Leased Worker From ATR International, Connexion Systems & Engineering, Redwood City, CA, August 12, 2008.

TA-W-72,025; Momentive Performance Materials USA, Waterford, NY, August 3, 2008.

TA-W-72,044; Kaiser Aluminum Fabricated Products, LLC, Tulsa, OK, May 26, 2008.

TA-W-72,202; Ideal Clamp Products, St. Augustine, FL, August 28, 2008.

TA-W-72,211; Unisia Steering Systems, Inc., TRC Staff, Staff Right, Chase Staff, Intersect Group, Oakwood, GA, September 2, 2008.

TA-W-72,227; EPIC Technologies, LLC, Leased Workers from Kelly Services, Norwalk, OH, May 15, 2009.

TA-W-72,318; Grecon Dimter, Inc., Catawba Valley Staffing, Connelly Springs, NC, September 3, 2008.

TA-W-72,424; Momentive Performance Materials, Inc., Willoughby, OH, September 25, 2008.

TA-W-72,553; Intel Corporation, Technology Manufacturing Group/Leased Workers of Abacus Service Corporation, Chandler, AZ, September 29, 2008.

TA-W-72,564; Thermoseal, Inc., Sidney, OH, October 9, 2008.

TA-W-72,596; Metso Minerals Industries, Inc., Metso Minerals Finland OY, Leased Workers from Employment Trends & Express, Portland, OR, October 13, 2008.

TA-W-72,628; BASF Belvidere, Coating Division, Basf Corp., On-Site Independent Contractor, Belvidere, NJ, October 19, 2008.

TA-W-72,648; Fisher and Paykel Laundry Manufacturing, Clyde, OH, October 12, 2008.

TA-W-72,777; Caterpillar Inc., Building Construction Div., Backhoe Loaders, Clayton, NC, November 3, 2008.

TA-W-72,892; Bostik, Inc., A Subsidiary of Elf Aquitaine, Marshall, MI, November 18, 2008.

TA-W-72,906; Sonetics Corporation, Firecom and Flightcom Div., Tigard, OR, November 12, 2008.

TA-W-72,924; Heritage Aviation, LTD, Leased Workers from Global Technical Services, Grand Prairie, TX, November 20, 2008.

TA-W-72,951; Alstom Transportation Electronic Systems, Inc., Triad, Williston, VT, November 24, 2008.

TA-W-72,975; Pexco, LLC (FKA Filtrona Extrusion, Inc.), Leased Workers From ADD Staffing, Union Gap, WA, November 23, 2008.

TA-W-72,978; Caterpillar, Inc., Large Power Systems Division, Cast Metals Organization, Mapleton, IL, November 3, 2008.

TA-W-72,985; Brantly Helicopter, Inc., Vernon, TX, November 30, 2008.

TA-W-71,119; Hunter Douglas, Northwest Division, Renton, WA, June 5, 2008.

TA-W-71,258; UPM Raflatac, Inc., Leased Workers from Manpower and Onesource, Wilkes-Barre, PA, June 16, 2008.

TA-W-71,357; Moyno, Inc., Fluid Management Group, Robbins & Myers, Leased Workers of Express Temporary, Springfield, OH, June 15, 2008.

TA-W-72,095; The Store Kraft Manufacturing Company, Leased Workers from Advance Services and Staffing Services, Beatrice, NE, August 18, 2008.

TA-W-72,721; Arquest, Inc., ESA Staffing, Camden, AR, October 30, 2008.

TA-W-73,019; Hunter Technology Corporation, Leased Workers from Advanced Technical Resources etc., Santa Clara, CA, December 2, 2008.

TA-W-70,677; SPI America, LLC, Healthcare Division/Leased Workers of Mt. Matchmaker, Nashville, TN, May 19, 2008.

TA-W-70,750; Martinair, Martinair Holland, N.V., Dora, FL, May 28, 2008.

TA-W-71,121; Albion Associates Inc., Personnel Center and Independent Contractors, High Point, NC, June 2, 2008.

TA-W-71,449; The Nielsen Company, Features Coding Department, Leased Workers from Adecco Staffing, Omaha, NE, June 19, 2008.

TA-W-71,461; Arrow Electronics, Inc., Corporate Information Technology Dept., Leased Workers from Adecco Employment, Melville, NY, June 29, 2008.

TA-W-71,506; ExxonMobil Chemical Company, Specialty Elastomers Division/Leased Workers of Manpower and Comsys, Akron, OH, June 25, 2008.

TA-W-71,809; Keane, Inc., L-2 Technical Support, Working at Pfizer, In Morris Plains, NJ, Boston, MA, July 27, 2008.

TA-W-71,935; Bank of America, Global Treasury Operations U.S. Wire, Leased Workers Robert Half International, Concord, CA, August 3, 2008.

TA-W-71,971; Knaack LLC, Customer Service Dept., Aerotek, Crystal Lake, IL, August 4, 2008.

TA-W-72,079; GM LAAM Holding, LLC, Latin America, Africa and Middle East, Leased Workers of Securitas, EDS, Miramar, FL, August 6, 2008.

TA-W-72,081; GE Healthcare IITS USA Corp, Global Engineering Dept., General Electric Company, Barrington, IL, August 3, 2008.

TA-W-72,291; EDS, An HP Company, Hewlett-Packard Company, Detroit, MI, September 11, 2008.

TA-W-72,344; Keane, Inc., Keane International, Inc., Syracuse, NY, September 9, 2008.

TA-W-72,405; Cadmus Journal Services, Inc., Cenveo Corp., Columbus, OH, September 24, 2008.

TA-W-72,482; GemStone Systems, Inc., Leased Workers from BOCCI Design, Beaverton, OR, October 1, 2008.

TA-W-72,543; Owens Corning Sales, LLC, Leased Workers of Kelly Services, Charleston, WV, October 8, 2008.

TA-W-72,731; Metropolitan Life Insurance Company, Leased Workers from Adecco, Johnstown, PA, October 29, 2008.

TA-W-72,925; Honeywell Security and Communications, Honeywell Security Division, Honeywell International, Folsom, CA, November 20, 2008.

TA-W-72,995; Travelport Operations, Inc., Corporate Headquarters, Parsippany, NJ, November 24, 2008.

TA-W-73,007; Perot Systems Corporation, Dell Perot Systems, Healthcare Business Unit, Leased Workers AP Professionals, Phoenix, AZ, December 1, 2008.

TA-W-70,857A; DHL Global Forwarding, DP DHL, Finance & Accounting Div., Manpower, Randstad, Irving, TX, June 1, 2008.

TA-W-70,857B; DHL Global Forwarding, DP DHL, Finance & Accounting Div., Phoenix, AZ, June 1, 2008.

TA-W-70,857C; DHL Global Forwarding, DP DHL, Finance & Accounting Div., Manpower, Randstad, Houston, TX, June 1, 2008.

TA-W-70,857D; DHL Global Forwarding, DP DHL, Finance & Accounting Div., Renton, WA, June 1, 2008.

TA-W-70,857; DHL Global Forwarding, DP DHL, Finance and Accounting Division, Plantation, FL, June 1, 2008.

TA-W-72,431A; Matthew Bender and Company, Inc., d/b/a Lexisnexis, Corporate Accounting Division, Reed Elsevier, Miamisburg, OH, September 28, 2008.

TA-W-72,431B; Matthew Bender and Company, Inc., d/b/a Lexisnexis, Corporate Accounting Division, Reed Elsevier, New Providence, NJ, September 28, 2008.

TA-W-72,431C; Matthew Bender and Company, Inc., d/b/a Lexisnexis, Corporate Accounting Division, Reed Elsevier, Bellevue, WA, September 28, 2008.

TA-W-72,431; Matthew Bender and Company, Inc., d/b/a Lexisnexis, Corporate Accounting Division, Reed Elsevier, Albany, NY, September 28, 2008.

TA-W-72,620; Brand Science, LLC, Dandridge, TN, October 19, 2008.

The following certifications have been issued. The requirements of Section 222(b) (adversely affected workers in public agencies) of the Trade Act have been met.

None.

The following certifications have been issued. The requirements of Section 222(c) (supplier to a firm whose workers are certified eligible to apply for TAA) of the Trade Act have been met.

TA-W-70,365; Bell Engineering, Incorporated, Saginaw, MI, May 19, 2008.

TA-W-70,417; Milliken and Company, Automotive Division, Sharon Plant, Abbeville, SC, May 19, 2008.

TA-W-70,425; UGN, Inc., Leased Workers of Hamilton-Ryker Company and Manpower, Jackson, TN, May 18, 2008.

TA-W-70,490A; Bright Wood Corporation, Redmond, OR, May 20, 2008.

TA-W-70,490; Bright Wood Corporation, Madras, OR, May 20, 2008.

TA-W-71,040; United States Steel, Granite City Works Division, Granite City, IL, June 5, 2008.

TA-W-71,063; Precision Compacted Components, Inc., Wilcox, PA, June 5, 2008.

TA-W-71,210; Grede Foundries, Inc., Leased Workers From Emerald City Staffing, Greenwood, SC, June 12, 2008.

TA-W-71,455; Citation Corporation—Citation Wisconsin Casting, Iroquois Foundry Corp., Leased Workers of Corporate Development, Browntown, WI, June 26, 2008.

TA-W-71,464; A and L Lumber Company, Tryon, NC, June 22, 2008.

TA-W-71,617; Tube City IMS, LLC, Tube City IMS Corporation, Granite City, IL, July 8, 2008.

TA-W-71,788; Kelly Hosiery Mill, Inc., Hickory, NC, July 22, 2008.

TA-W-71,999; Leigh Fibers, Inc., Leased Workers from Human Technologies, Inc., Wellford, SC, August 11, 2008.

TA-W-70,161; Kelsey-Hayes Company, Subsidiary of TRW Automotive, Inc., Parts & Serv., Wixom, MI, May 18, 2008.

TA-W-72,011; General Electric Lexington Glass Plant, Lighting LLC, Leased Workers of The Patty Tipton & Aetna Building Maintenance, Lexington, KY, July 14, 2008.

The following certifications have been issued. The requirements of Section 222(c) (downstream producer for a firm whose workers are certified eligible to apply for TAA) of the Trade Act have been met.

TA-W-70,837; Harco Manufacturing Group, LLC, Harco Brake Systems Division, Harco Industries Division, Moraine, OH, May 27, 2008.

TA-W-72,764; International Paper Company, Franklin Pulp and Paper Mill, Franklin, VA, November 3, 2008.

The following certifications have been issued. The requirements of Section 222(f) (firms identified by the International Trade Commission) of the Trade Act have been met.

TA-W-70,856; IPSCO Tubulars, Inc., Camanche, IA, July 15, 2007.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-71,147; NNR Global Logistics USA, Inc, Minneapolis Branch, Eagan, MN.

TA-W-71,277; Carson Industries, Inc., Freeport, PA.

TA-W-72,942; V and W Packaging, Hickory, NC.

The investigation revealed that the criteria under paragraphs (a)(2)(A)(i) (decline in sales or production, or both) and (a)(2)(B) (shift in production or services to a foreign country) of section 222 have not been met.

TA-W-72,142; Drake Manufacturing Services, Inc., Warren, OH.

The investigation revealed that the criteria under paragraphs(a)(2)(A) (increased imports) and (a)(2)(B) (shift in production or services to a foreign country) of section 222 have not been met.

TA-W-70,099; Equipment Services, Inc., Snap-On Equipment, Leased Workers Manpower and Staffmark, Conway, AZ.

TA-W-70,175; Riddle Laminators, Riddle, OR.

TA-W-70,262; Autonation, Libertyville Toyota Division, Libertyville, IL.

TA-W-70,461; S and S Fire Apparatus, Fairmount, IN.

TA-W-70,503; R and R Donnelley, Long Prairie, MN.

TA-W-70,599; Innovion Corporation, Gresham, OR.

TA-W-70,721; GrafTech International Holdings, Inc, Lawrenceburg, TN.

TA-W-70,727; North Bergen Piece Dye Works, Inc., North Bergen, NJ.

TA-W-70,749; Fanuc Robotics America, Inc., Leased Workers from Right Angle Staffing, Inc., Quanta, Inc., Rochester Hills, MI.

TA-W-70,760; Ridge Tool Company, Division of Emerson Electric, Elyria, OH.

TA-W-71,027; Garsite/Progess LLC, dba Progress Tank, Walker Group Holdings, Arthur, IL.

TA-W-71,128; HPG International, Inc., Mountain Top, PA.

TA-W-71,214; Color-Fi, Sumter, SC.

TA-W-71,299; Polymer Division, JD, Inc., Johnson Diversey, Sturtevant, WI.

TA-W-71,360; Monarch Industries, Inc., Waterbury, CT.

TA-W-71,365; Heartland Companies, Ltd, San Francisco, CA.

TA-W-71,463; Freedom Plastics, Inc., Leased Workers from Serviant, Janesville, WI.

TA-W-71,543; Wesley Hall Furniture, Inc., Hickory, NC.

TA-W-71,556; North River Boats, Inc., Roseburg, OR.

TA-W-71,701; Key Gas Components, Marion, NC.

TA-W-71,951; Mack Trucks, Inc., Macungie Assembly Division, Macungie, PA.

TA-W-72,293; Bennington Furniture, Inc., Sharpsville, PA.

TA-W-72,317; Phaztech, Inc., St. Mary's, PA.

TA-W-70,330; Siemens Product Life Cycle Management Software, Inc., Subsidiary of Siemens Industry Holdings, USG Capital Corporation, Troy, MI.

TA-W-70,601; Ceda-Pine Veneer, Inc., Excaliber, Inc., Sandpoint, ID.

TA-W-70,665; DuPont Marshall Laboratory, Dupont Performance Coastings Division, Dupont Company, Philadelphia, PA.

TA-W-71,511; Jeld-Wen, Inc., Engineering Division, Klamath Falls, OR.

TA-W-71,608; Xilinx, Inc., Albuquerque, NM,

TA-W-71,948; Solutions Manufacturing, Inc., Rockledge, FL.

TA-W-72,131; Phillips Van Heusen Corporation, Logistics Services Division, Schuylkill Haven, PA.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

None.

I hereby certify that the aforementioned determinations were issued during the period of December 14 through December 31, 2009. Copies of these determinations are available for inspection in Room N-5428, U.S. Department of Labor, 200 Constitution Avenue, NW., Washington, DC 20210 during normal business hours or will be mailed to persons who write to the above address.

Dated: February 1, 2010.
Elliott S. Kushner,
Certifying Officer, Division of Trade Adjustment Assistance.

[FR Doc. 2010-3004 Filed 2-12-10; 8:45 am]

BILLING CODE 4510-FN-P